DEPARTMENT OF LABOR

Employment and Training Administration

[TA-W-73,211]

Wapakoneta Machine Company, Currently Known as EF Industrial Technologies, Inc., Wapakoneta, OH; Amended Certification Regarding Eligibility To Apply for Worker Adjustment Assistance

In accordance with Section 223 of the Trade Act of 1974, as amended (“Act”), 19 U.S.C. 2273, the Department of Labor issued a Certification of Eligibility to Apply for Worker Adjustment Assistance on May 17, 2010, applicable to workers of Wapakoneta Machine Company, Wapakoneta, Ohio. The notice was published in the Federal Register on June 7, 2010 (75 FR 32223).

At the request of the State agency, the Department reviewed the certification for workers of the subject firm. The workers are engaged in the production of machine knives.

New information shows that as of early 2010, Wapakoneta Machine Company is currently known as EF Industrial Technologies, Inc. Some workers separated from employment at the subject firm had their wages reported under a separate unemployment insurance (UI) tax account under the name EF Industrial Technologies, Inc.

Accordingly, the Department is amending this certification to properly reflect this matter.

The intent of the Department's certification is to include all workers of the subject firm who were adversely affected by increased imports of machine knives.

The amended notice applicable to TA-W-73,211 is hereby issued as follows:

All workers of Wapakoneta Machine Company, currently known as EF Industrial Technologies, Inc., Wapakoneta, Ohio became totally or partially separated from employment on or after December 8, 2008, through May 17, 2012, and all workers in the group threatened with total or partial separation from employment on date of certification through two years from the date of certification, are eligible to apply for adjustment assistance under Chapter 2 of Title II of the Trade Act of 1974, as amended.

Signed at Washington, DC, this 29th day of June 2010.
Elliott S. Kushner,
Certifying Officer, Division of Trade Adjustment Assistance.

[FR Doc. 2010-17451 Filed 7-16-10; 8:45 am]

BILLING CODE 4510-FN-P